DEPARTMENT OF AGRICULTURE

Federal Crop Insurance Corporation

[Docket No. FCIC-18-0003]

Notice of Request for Renewal and Revision of the Currently Approved Information Collection

AGENCY: Federal Crop Insurance Corporation, USDA.

ACTION: Renewal and revision of the currently approved information collection.

SUMMARY: In accordance with the Paperwork Reduction Act of 1995, the Farm Service Agency (FSA) and Risk Management Agency (RMA) are requesting comments from all interested individuals and organizations on a revision of a currently approved paperwork package associated with the Acreage and Crop Reporting Streamlining Initiative (ACRSI).

DATES: Written comments on this notice will be accepted until close of business August 17, 2018.

ADDRESSES: FCIC prefers that comments be submitted electronically through the Federal eRulemaking Portal. You may submit comments, identified by Docket ID No. FCIC-18-0003, by any of the following methods:

• Federal eRulemaking Portal: http://www.regulations.gov. Follow the instructions for submitting comments.

• Mail: Todd Anderson, United States Department of Agriculture, FSA, DAFP, PECD, 1400 Independence Ave. SW, Mail Stop 0570, Washington, DC 20250-0570; or Richard Anderson, RMA, United States Department of Agriculture, P.O. Box 419205, Kansas City, MO 64133-6205.

All comments received, including those received by mail, will be posted without change to http://www.regulations.gov, including any personal information provided, and can be accessed by the public. All comments must include the agency name and docket number. For detailed instructions on submitting comments and additional information, see http://www.regulations.gov. If you are submitting comments electronically through the Federal eRulemaking Portal and want to attach a document, we ask that it be in a text-based format. If you want to attach a document that is a scanned Adobe PDF file, it must be scanned as text and not as an image, thus allowing FCIC to search and copy certain portions of your submissions. For questions regarding attaching a document that is a scanned Adobe PDF file, please contact the RMA Web Content Team at (816) 823-4694 or by email at rmaweb.content@rma.usda.gov.

Privacy Act: Anyone is able to search the electronic form of all comments received for any dockets by the name of the individual submitting the comment (or signing the comment, if submitted on behalf of an association, business, labor union, etc.). You may review the complete User Notice and Privacy Notice for Regulations.gov at http://www.regulations.gov/#!privacyNotice.

FOR FURTHER INFORMATION CONTACT: Todd Anderson, United States Department of Agriculture, FSA, DAFP, PECD, Washington, DC 20250-0570, (202) 720-9106; or Richard Anderson, RMA, United States Department of Agriculture, P.O. Box 419205, Kansas City, MO 64133-6205, (816) 926-3950.

SUPPLEMENTARY INFORMATION:

Title: Acreage/Crop Reporting Streamlining Initiative (ACRSI).

OMB Number: 0563-0084.

Expiration Date of Approval: September 30, 2018.

Type of Request: Extension of a currently approved information collection.

Abstract: The currently approved information collection of OMB Number 0563-0084 is up for renewal and we are requesting an extension for 3 years. FSA and RMA are requesting comments from all interested individuals and organizations on the information collection request associated with ACRSI. FSA and RMA have established the procedures, processes, and standards to simplify commodity and acreage reporting by producers, eliminate or minimize duplication of information collection by multiple agencies, and reduce the burden on producers, allowing producers to report this information through FSA county office service centers, insurance agents, or through precision ag technology capabilities. FSA and RMA implemented a streamlined reporting solution to establish a common data collection and reporting capability that supports USDA's programs.

RMA is continuing to improve the existing Office of Management and Budget (OMB) approved information collections for RMA, 0563-0053, Multiple Peril Crop Insurance, acreage information, generally collected from the respondent during a personal visit to the FSA Service Center and again from the respondent during a personal visit with the insurance agent.

The forms are still available to accommodate respondents with no internet access and those who wish to continue to personally visit the FSA Service Center and insurance agent to report this common information.

Information reported to the common data collection and reporting capability (otherwise known as the Clearinghouse) are shared by both FSA and RMA, as well as other USDA agencies, such as NRCS and NASS that have the authority and need for such information. In each phase of system implementation, some or all of the commodity and acreage information in the existing approved information collections are reported through this solution. Furthermore, the information collected are the same as the information currently approved. Additionally, the respondent will continue to report their common information one time through a single source thereby reducing the respondent's burden of reporting such common information and eliminating the duplicate reporting that may be currently required. The information collected will continue to be the same as the information currently approved and are used in the same manner it would be used if reported separately to each agency. The producers are continuing to use their precision-ag systems, farm management information systems, or download data files to directly report certain commodity and acreage information needed to participate in USDA programs.

The information being collected may consist of, but not be limited to: Producer name, customer/tax ID, state, county, commodity name, commodity type or variety, intended use, date planted, planted acreage, and land location (which may include legal description, FSA farm number, FSA tract number, FSA field number, geospatial as-planted field boundaries, Resource Land Unit, etc.).

FSA and RMA are continuing to implement the ACRSI initiative in phases. The first phase was initiated in the fall of 2011 in Dickenson, Marion, McPherson, and Saline Counties in Kansas, and only for the collection of information from producers regarding winter wheat. The second phase was implemented in the spring of 2015 in 30 counties of Illinois and Iowa covering 9 crops. The third phase was implemented in the fall of 2015 in all counties of 15 states covering 9 crops. The fourth phase was implemented in the spring of 2016 in all counties nationwide covering 13 crops and about 90 percent of reported acreage. The fifth phase was implemented in the fall of 2016 expanding nationwide coverage to 16 crops and about 93 percent of reported acreage. The sixth phase was implemented in the fall of 2017 and spring of 2018 expanding nationwide coverage to 25 crops and about 94 percent of reported acreage. To ensure statutory criteria are met for Federal crop insurance, FSA and Commodity Credit Corporation (CCC) programs, the collection of commodity and acreage information is necessary. This is not a request for a change, addition, or deletion to the currently approved information collections.

However, the existing approved information collection will be updated, modified or eliminated, as applicable, to reflect the reduction in burden on the respondents when the solution is fully implemented.

Respondents: Producers.

Estimated Annual Number of Respondents Utilizing the Web-Based Single Source Reporting System and Benefiting From Sharing Information Between Agencies: 501,012.

Estimated Annual Number of Responses per Respondent: 1.5.

Estimated Total Annual Burden on Respondents Utilizing the Web-Based Single Source Reporting System and Benefiting From Having That Information Shared Between Agencies: 1,377,783 hours.

We are requesting comments on all aspects of this information collection to help us to:

(1) Evaluate whether the collection of information is necessary for the proper performance of the functions of the agencies, including whether the information will have practical utility;

(2) Evaluate the accuracy of the agency's estimate of burden including the validity of the methodology and assumptions used;

(3) Enhance the quality, utility and clarity of the information to be collected;

(4) Minimize the burden of the collection of information on those who are to respond through use of appropriate automated, electronic, mechanical, or other technological collection techniques or other forms to technology.

All comments in response to this notice, including names and addresses when provided, will be a matter of public record. Comments will be summarized and included in the request for Office of Management and Budget (OMB) approval.

Martin R. Barbre,
Manager, Federal Crop Insurance Corporation.

[FR Doc. 2018-13049 Filed 6-15-18; 8:45 am]

BILLING CODE 3410-08-P